DEPARTMENT OF HEALTH AND HUMAN SERVICES

Centers for Disease Control and Prevention

Human Immunodeficiency Virus (HIV) Prevention Projects for Community-Based Organizations

Announcement Type: New.

Funding Opportunity Number: 04064.

Catalog of Federal Domestic Assistance Number: 93.939.

Key Dates

Letter of Intent Deadline: December 22, 2003.

Application Deadline: February 6, 2004.

I. Funding Opportunity Description

Authority: This program is authorized under sections 301(a) and 317(k)(2) of the Public Health Service Act, [42 U.S.C. 241 and 42 U.S.C. 247b(k)(2)], as amended.

Purpose: The purpose of the program announcement is consistent with CDC's Government Performance and Results Act (GPRA) performance plan and the CDC goal to reduce the number of new HIV infections in the United States. Funds are available under this announcement for HIV prevention projects for Community-Based Organizations (CBOs).

This program announcement addresses the “Healthy People 2010” focus area of HIV Prevention.

Measurable outcomes of this program will be in alignment with one (or more) of the following performance goal(s) for the National Center for HIV, STD and TB Prevention (NCHSTP):

• Decrease the number of persons at high risk for acquiring or transmitting HIV.

• Increase the proportion of HIV-infected people who know they are infected.

• Increase the proportion of HIV-infected people who are linked to appropriate prevention, care, and treatment services.

• Strengthen the capacity nationwide to monitor the epidemic, develop and implement effective HIV prevention interventions, and evaluate prevention programs.

The specific objectives of this announcement are to:

• Reduce HIV transmission.

• Increase the proportion of individuals at high risk for HIV infection who receive appropriate prevention services.

• Reduce barriers to early diagnosis of HIV infection.

• Increase the proportion of individuals at high risk for HIV infection who become aware of their serostatus.

• Increase access to quality HIV medical care and ongoing prevention services for individuals living with HIV.

• Address high priorities identified by the state or local HIV prevention Community Planning Group (CPG).

• Complement HIV prevention activities and interventions supported by state and local health departments.

Activities

Throughout this program announcement, you will be asked to adapt and tailor CDC procedures, including Replicating Effective Programs (REP) and Diffusion of Effective Behavioral Interventions (DEBI) (see Attachment I). This program announcement and all attachments for this announcement are located on the CDC Web site http://www.cdc.gov. To view CDC procedures, program announcement attachments and other available technical assistance visit http://www2a.cdc.gov/hivpra/pa04064.html. Definitions for terms used frequently throughout the program announcement can be found in the Program Announcement Glossary (see Attachment II). The terms defined below are used frequently throughout the program announcement and are also included in the Glossary.

For the purpose of this program announcement, an individual at high risk for HIV infection is someone who has had unprotected sex or has shared injecting equipment in a high-prevalence setting or with a person who is living with HIV.

A high-prevalence setting is a geographic location or community with an HIV seroprevalence greater than or equal to one percent.

An individual at very high risk for HIV infection is someone who (within the past six months) has:

• Had unprotected sex with a person who is living with HIV.

• Had unprotected sex in exchange for money or drugs.

• Had multiple (greater than five) or anonymous unprotected sex or needle-sharing partners.

OR

• Been diagnosed with a sexually transmitted disease (STD).

If CDC funds your CBO, you will be responsible for one or more of the following activities:

1. Conducting targeted outreach and providing Health Education/Risk Reduction (HE/RR) for high-risk individuals.

2. Conducting targeted outreach and providing Counseling, Testing, and Referral (CTR) services for high-risk individuals.

3. Implementing one or more of the interventions below:

(a) Prevention for individuals living with HIV and their sex or injecting drug-using partners who are HIV negative or unaware of their HIV status.

(b) Prevention for individuals at very high risk for HIV infection.

(c) Partner Counseling and Referral Services (PCRS).

You must also:

4. Set a baseline level, annual targets, and five year overall target levels of performance for each core indicator identified by CDC (see Attachment III for a description of program performance indicators). If your CBO is funded, CDC will meet with you within 60 days to review the indicators. CDC will help you revise the indicators if necessary. If you fail to achieve your target levels of performance, CDC will work with you to improve performance. If your performance fails to improve, CDC may reduce the award or defund your program.

5. Collect monitoring and evaluation data and report required data to CDC's Program Evaluation and Monitoring System (PEMS) (see Attachment IV for a description of PEMS).

6. Refer individuals living with HIV to prevention services and medical care (including STD screening) if your CBO is unable to provide them directly.

7. Refer individuals at very high risk for HIV infection to prevention services if your CBO is unable to provide them directly.

8. Collaborate and participate in the HIV prevention community planning process with your local health department.

9. Identify and address the capacity-building needs of your program and participate in mandatory CDC-sponsored training.

In a cooperative agreement, CDC staff is substantially involved in program activities in addition to grant monitoring. If your CBO is funded under this announcement, CDC involvement will include:

1. Providing assistance and consultation on program and administrative issues directly or through partnerships with health departments, national and regional minority organizations, contractors, and other national and local organizations.

2. Working with you to assess your training needs and ensure that those needs are met.

3. Disseminating current information, including best practices, in all areas of HIV prevention.

4. Helping you to adopt effective intervention models through CDC procedures, workshops, conferences, and other written materials.

5. Providing assistance and information on new rapid HIV testing technologies.

6. Helping you establish partnerships with state and local health departments, community planning groups, and other groups who receive federal funding to support HIV/AIDS activities.

7. Ensuring that successful prevention interventions, program models, and lessons learned are shared between grantees through meetings, workshops, conferences, newsletter development, Internet, and other avenues of communication.

8. Monitoring your success in program and fiscal activities, protection of client privacy, and compliance with other organizational requirements.

9. Developing program evaluation guidelines and protocols and program monitoring systems (including indicators) and protocols.

10. Monitoring your progress toward achieving your target level of performance for each core indicator, and by working with you if you fail to achieve your target levels of performance.

11. Providing assistance with required program indicators.

II. Award Information

Type of Award: Cooperative Agreement.

Fiscal Year Funds: 2004.

Approximate Total Funding: $49,000,000.

CDC anticipates the following distribution of funds: $12 million for targeted outreach and health education/risk reduction; $14 million for targeted outreach and counseling, testing and referral services (CTR); and $23 million for prevention interventions.

Approximate Number of Awards: 160.

Approximate Average Award: $300,000.

Floor of Award Range: $100,000.

Ceiling of Award Range: $500,000.

Anticipated Award Date: June 1, 2004.

Budget Period Length: 12 months.

Project Period Length: Up to 5 years.

Continuation awards within an approved project period will be determined by the availability of funds and the best interest of the Federal Government. To be granted a continuation award, you must have:

• Completed all recipient requirements.

• Achieved your annual target levels of performance for each core indicator.

• Submitted all required reports.

III. Eligibility Information

Eligible Applicants

Applications may only be submitted by eligible CBOs, including faith-based CBOs. CBOs may apply under one of the following categories:

Category A: Providing HIV prevention services to members of racial/ethnic minority communities who are at high risk for HIV infection.

Category B: Providing HIV prevention services to members of groups at high risk for HIV infection regardless of their race/ethnicity.

Other Eligibility Requirements

To be eligible, your CBO must meet all criteria listed below. Your CBO must:

A. Have tax-exempt status.

B. Be located in the area(s) where services will be provided or have provided services in the area for at least three years.

C. Have discussed the details of your proposed CTR program with the health department and have agreed to follow their guidelines for these services if your CBO provides them (see Attachment V for a list of requirements).

D. Not be a government or municipal agency, private or public university or college, or private hospital.

E. Not be a 501(c) (4) organization.

Note: Title 2 of the United States Code section 1611 states that an organization described in section 501(c)(4) of the Internal Revenue Code that engages in lobbying activities is not eligible to receive federal funds constituting an award, grant, or loan.

F. If applying under Category A, your CBO must:

1. Have proof that 85 percent of the persons your CBO has served in each of the last three years were of racial/ethnic minority populations.

2. Have provided HIV prevention services in each of the last three years to your proposed high-risk population.

G. If applying under Category B, your CBO must:

1. Have proof that over 50 percent of the persons your program has served in each of the last three years were from high-risk groups, regardless of their race/ethnicity.

2. Have a program that has provided HIV prevention or care services in each of the last three years to your proposed target population, or have access to high-risk populations who do not have the services funded under this announcement available in their geographic area, such as transgender, drug-injecting women, and Native American populations.

Note: All information submitted with your application is subject to verification during pre-decisional site visits.

This program announcement is limited to CBOs due to their credibility among individuals living with HIV and those at very high risk for HIV infection. CBOs have proven their ability to access hard-to-reach populations (e.g., Intravenous Drug Users) that have traditionally suffered exclusion from mainstream interventions and agencies.

Cost Sharing or Matching

Matching funds are not required for this program.

IV. Application and Submission Information

Letter of Intent (LOI)

Inform CDC that you plan to apply for funding by filling out the form found in Attachment VI. Please fax, mail, or e-mail your LOI to us by December 22, 2003. You may also complete this form online at: http://www2a.cdc.gov/hivpra/pa04064.html.

Although a letter of intent is not required, this information will assist CDC in planning for the review process.

Your LOI must contain:

• Your organization name, address, executive director.

• A description of your target population.

• A statement of your intent to apply and category under which you are eligible to apply (e.g., Category A or Category B).

Your application should not accompany your LOI.

How to Obtain Application Forms: To apply for funding under this program announcement, use application form PHS 5161-1. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at 770-488-2700. Application forms can be mailed to you.

This program announcement provides final guidance on application format, content, and deadlines. If there are differences between the application form instructions and the program announcement, adhere to the guidance in the program announcement.

You are required to have a Dun and Bradstreet Data Universal Numbering System (DUNS) number to apply for a grant or cooperative agreement from the federal government. The DUNS number is a nine-digit identification number, which uniquely identifies business entities. Obtaining a DUNS number is easy and there is no charge. To obtain a DUNS number, access http://www.dunandbradstreet.com or call 1-866-705-5711.

For more information, visit the CDC Web site at: http://www.cdc.gov/od/pgo/funding/pubcommt.htm.

If your application form does not have a DUNS number field, please write your DUNS number at the top of the first page of your application, and/or include your DUNS number in your application cover letter.

Application Content and Form of Submission

You must submit a signed original and two copies of your application forms.

You must include a project narrative with your application forms. Your narrative should address the activities that that your CBO will conduct over the entire five-year project period.

Your narrative must be submitted in the following format:

There is a maximum limit of 40 single-spaced pages. If your narrative exceeds the page limit, only the first 40 pages will be reviewed.

• 12 point, unreduced font size.

• 8.5 by 11 inch paper.

• One-inch margins on each page.

• Printed only on one side of paper.

• Held together only by rubber bands or metal clips; not bound in any other way.

This section of the program announcement defines program requirements. You must describe your plans to address each requirement. Your application will be reviewed based on your answers to the questions in subsections A through I. Please answer each question with complete sentences and provide all requested documents. If you fail to provide the required documents, your application will not be considered for review.

This section also lists the core program indicators that will be used to measure your program's success. In your application, you are required to make an effort to report on the baseline level for each indicator, as well as projected one-year interim and five-year overall target levels of performance. When you apply for funding continuation, you will have the opportunity to revise your baseline, interim, and overall levels of performance, as specified in the guidance for completing your continuation application. In subsequent reports, you will report on the progress your CBO has made toward achieving your target level of performance for each core indicator.

When answering questions for subsections A-I, you must:

• Label your application using the subsection title and name of the subsection (e.g., A. Eligibility) if applicable.

• Use the abbreviation N/A (not applicable), if a question or subsection does not apply to your application.

A. Eligibility

Suggested length: ten pages or less.

This section will not count toward the 40 page limit of your application, but it will determine if you are eligible for funding. Place all documents requested in subsection A in Appendix A, labeled Proof of Eligibility.

In your application, answer the following questions:

1. Are you applying under Category A: Providing HIV prevention services to members of racial/ethnic minority communities who are at high risk for HIV infection or Category B: Providing HIV prevention services to members of groups at high risk for HIV infection regardless of their race/ethnicity?

Note: For questions two through five, please provide documentation. Proof of location, history, and service must include at least one copy of a progress report describing services to the population served, a letter from one of your funding organizations, process monitoring data, service utilization data (which includes client characteristics), or a newspaper article.

2. Does your CBO have a valid Internal Revenue Service (IRS) 501(c)(3) tax-exempt status or state proof of incorporation as a non-profit organization? If you answer yes, you must attach a copy of the letter from the IRS or a copy of your state proof of incorporation. If you answer no, you are not eligible to apply for funding under this program announcement.

3. Are you located in the area in which services will be provided, or have you provided services in that area for at least three years?

4. If your CBO is applying under Category A:

(a) What proportion of the individuals your organization has served during each of last three years were members of racial/ethnic minority populations?

(b) What evidence do you have that your CBO has provided HIV prevention services in each of the last three years to your proposed high-risk population?

5. If your CBO is applying under Category B:

(a) What evidence do you have that your program has provided HIV prevention or care services to your proposed target population during each of the last three years, or has access to high-risk populations who do not have services available in the area?

(b) What proportion of individuals served by your program during the last three years were from high-risk groups?

6. Is your organization a governmental or municipal agency, a government-affiliated organization or agency (e.g., health department, school board, public hospital), or a private or public university or college?

7. Is your organization included in the category described in section 501(c)(4) of the Internal Revenue Code of 1986 that engages in lobbying activities?

8. If you plan to offer HIV counseling and testing or partner counseling and referral services, have you discussed your proposed program with the health department? Have you agreed to follow the health department's guidelines for these services? Provide a letter from the health department addressing each item included in the sample letter. (Use Attachment VII).

9. Do you have voluntary counseling and testing, or care or treatment services, available onsite? If not, please provide a letter of intent to provide these services through another agency/agencies.

10. Is your organization applying as a single CBO, as a member of a coalition, or as a lead organization in a coalition, e.g., a collaborative contractual partnership? Please indicate which.

11. Is your organization currently funded under CDC Program Announcement 99091, 99092, 99096, 00023, 00100, 01033, 01163 or 03003? Please indicate which announcement(s).

B. Justification of Need

Suggested length: five pages.

Note: Contact your health department to obtain HIV/AIDS statistics and HIV needs assessment data developed for the community planning process. This information will help you answer the questions in this section.

In your application, please answer the following questions:

1. What kind of services does your agency provide?

2. Which organizations provide similar services in your area?

3. Who is your proposed target population for this program announcement? Complete Attachment VIII and include it in your application as Appendix B.

4. What are the behaviors that place your target population at high risk for HIV infection or for transmitting the virus?

5. How has your proposed target population been affected by the HIV/AIDS epidemic? (e.g., HIV incidence or prevalence, AIDS incidence or prevalence, AIDS mortality)

6. What history do you have serving this population? (Please explain how long you have provided services, describe what kinds of services have been provided, describe the outcomes of services you provided, and describe your relationship with the community.)

7. How do your staff members reflect your proposed target population? (Please describe, in aggregate, the characteristics of your key program staff in terms of experience working with the target population, gender, race/ethnicity, HIV serostatus, area of behavioral risk expertise, or other relevant factors.)

8. How will you involve the target population when planning and implementing your proposed services?

9. How will your proposed activities meet the needs of your target population or improve available services?

10. What services do you plan to provide under this program announcement? List all that apply in your application.

(a) Targeted outreach and HE/RR to high-risk individuals.

(b) Targeted outreach and CTR.

(c) Prevention interventions for individuals living with HIV and their sex or injection drug-using partners.

(d) Prevention interventions for individuals at very high risk for HIV infection.

(e) Partner counseling and referral services.

C. Targeted Outreach and Health Education/Risk Reduction for High-Risk Individuals

Suggested length: five pages.

1. If you are applying for targeted outreach and HE/RR services, you must conduct activities listed in sections F, G, H, and I. You must also:

(a) Using CDC procedures including REP and DEBI, (see Attachment I), implement targeted strategies to increase the number of high-risk individuals who reduce their risk for HIV infection and consent to testing. Your strategies should aim to reach high-risk individuals who have not tested in the last six months or do not know their HIV serostatus. Activities should be conducted in a setting that is comfortable and accessible to your clients. Your strategies should also improve access to other local HIV prevention services. The following strategies will be supported:

(1) Targeted outreach.

(2) Individual-level interventions.

(3) Small group-level interventions.

(4) Referral networks.

(b) Offer voluntary HIV counseling and testing to each individual identified through your program. If you do not conduct testing, you must establish a formal agreement with another agency/agencies to provide testing.

(c) Collect and report process and outcome monitoring data on the services you provide, including core performance indicators, as directed in the PEMS and the Evaluation Guidance.

2. In your application, please answer the following questions:

(a) How will you target your efforts to reach high-risk individuals who have not been tested in the last six months or do not know their HIV serostatus?

(b) How will you identify and address barriers to accessing your target population?

(c) How will you involve your target population when planning and implementing your proposed services?

(d) How will you ensure that your activities will reach individuals at high risk for HIV infection who are unaware of their HIV serostatus or are not receiving prevention or care services?

(e) How will you adapt and tailor relevant CDC procedures, including REP and DEBI, into your existing or proposed program?

(f) How will you ensure access to voluntary HIV counseling and testing services?

(g) What are your quality assurance strategies?

(h) How will you train, support, and retain staff to conduct interventions?

(i) How will you ensure client confidentiality?

(j) How will you ensure that your services are culturally sensitive and relevant?

(k) What are your baseline levels, projected one-year interim, and five-year overall target levels of performance for the following core program indicators?

(1) The mean number of outreach contacts required to get one person with unknown or negative serostatus to access counseling and testing.

(2) The proportion of persons who access counseling and testing from each of the following interventions: individual-level interventions and group-level interventions.

(3) Proportion of persons that completed the intended number of sessions for each of the following interventions: Individual-level interventions and group-level interventions.

D. Targeted Outreach and Counseling, Testing, and Referral Services (CTR)

Suggested length: seven pages.

1. If you are applying for targeted outreach and CTR, you must conduct activities listed in sections F, G, H and I. You must also:

(a) Use CDC procedures, including REP and DEBI, (see Attachment I) to provide counseling and voluntary HIV-testing services to high-risk individuals identified through your outreach strategies. CDC encourages recipients to use a Clinical Laboratory Improvement Amendments (CLIA) waived rapid test when appropriate and to process confirmatory tests at the state or local health department laboratory. (Research has shown that the use of rapid HIV tests increases the number of individuals who receive their results; and knowledge of HIV serostatus promotes safer behaviors.) Your proposed activities must meet all local, state, and federal requirements for HIV prevention counseling, testing, and referral services. If required by state regulations, provide a letter of intent from a physician stating his/her involvement in HIV-testing activities. This letter must address each item included in the sample letter (use Attachment VII).

Funding may be used to cover testing-related costs. You must share your plans with the health department and obtain a letter of support to be eligible for funding.

(b) Provide post-test prevention counseling services for persons whose HIV test results are negative, but who are at ongoing very high risk for HIV infection. You must also provide appropriate prevention interventions for this population. If you cannot provide these services directly, you must refer these individuals to appropriate prevention interventions. Contact your health department to identify available referral services in your area.

(c) Provide post-test counseling services for persons whose HIV test results are positive. You must refer these individuals to the health department for Partner Counseling and Referral Services (PCRS).

(d) Establish a formal agreement with a laboratory and provide a plan for ensuring training, oversight, quality assurance, and compliance with CLIA requirements and relevant state and local regulations applicable to waived testing, if you will be using a waived rapid HIV test. Obtain a CLIA Certificate of Waiver or approval to operate under that laboratory's CLIA certificate. Submit a letter of support from the laboratory. Include this document as Appendix C.

(e) Implement strategies to reduce your target population's barriers to accessing CTR services (e.g., economic barriers, environmental barriers, cultural barriers, and social barriers).

(f) Collect and report counseling and testing data, including core performance indicators, as directed in the PEMS and the Evaluation Guidance, and follow required health department reporting procedures.

(g) Report confirmed HIV-positive tests to state and local health departments, following all rules and regulations regarding HIV and AIDS surveillance.

2. In your application, please answer the following questions:

(a) How will you ensure that counseling and testing activities will reach high-risk individuals who have not tested in the last six months or do not know their HIV serostatus?

(b) How will you identify and address your target population's barriers to accessing voluntary HIV counseling and testing services?

(c) How will you ensure that clients receive their test results, particularly clients who test positive?

(d) How will you ensure that individuals with initial HIV-positive test results will receive confirmatory tests? (If you do not provide confirmatory HIV testing, you must provide a letter of intent or memorandum of agreement with an external laboratory documenting the process through which initial HIV-positive test results will be confirmed.)

(e) How will you involve the target population when planning and implementing your proposed services?

(f) How will you adapt, tailor, and implement relevant CDC procedures, including REP and DEBI?

(g) What are your quality assurance strategies?

(h) How will you train, support, and retain staff providing counseling and testing?

(i) How will you ensure client confidentiality?

(j) How will you ensure that your services are culturally sensitive and relevant?

(k) What are your baseline levels and projected one-year interim and five-year overall target levels of performance for the following core program indicators?

(1) Percent of newly identified, confirmed HIV-positive test results among all tests funded by CDC and reported by your organization.

(2) Percent of newly identified, confirmed HIV-positive test results delivered to clients.

E. Prevention Interventions

Suggested length: seven pages.

1. If you are applying for funding to provide prevention services, you must conduct activities listed in sections F, G, H, and I. You must also:

(a) Implement one or more of the interventions below using standard CDC procedures; including REP and DEBI (see Attachment I):

(1) Prevention interventions for individuals living with HIV, and their sex and injection drug-using partners who are HIV negative or are unaware of their HIV serostatus.

(2) Prevention interventions for seronegative individuals at very high risk for HIV infection.

(3) Partner Counseling and Referral Services (PCRS).

(b) If you want to provide PCRS, you must work with your health department and meet all local, state, and federal requirements for providing these services. Obtain a letter of agreement from your health department which must also state that your CBO meets all local, state, and federal requirements. This letter must address each item included in the sample letter. (Use Attachment VII.)

(c) Collect and report process and monitoring data on these services, including core performance indicators, as directed in the PEMS and Evaluation Guidance.

2. In your application, for each service you plan to provide, please answer the following questions:

(a) What are your proposed prevention interventions?

(b) How will you identify and offer services to individuals living with HIV, and their sex and injection drug-using partners who are HIV negative or who do not know their HIV status?

(c) How will you identify and offer services to individuals at very high risk for HIV infection?

(d) Where will you provide prevention services? (Please describe the setting.)

(e) How will you maintain and retain individuals in your prevention intervention(s)?

(f) How will you coordinate prevention services with other case management and/or treatment providers for individuals living with HIV?

(g) How will you ensure that prevention services do not duplicate services provided by the Ryan White Care Act program?

(h) How will you address barriers related to partner counseling and referral services?

(i) What are the qualifications of staff providing prevention services?

(j) How will you involve the target population when planning and implementing your proposed services?

(k) How will you adapt, tailor, and implement relevant CDC procedures, including REP and DEBI?

(l) What are your quality assurance strategies?

(m) How will you train, support, and retain staff to provide these interventions?

(n) How will you ensure services are culturally sensitive and relevant?

(o) How will you ensure client confidentiality?

(p) What are your baseline levels, projected one-year interim, and five-year target levels of performance for the following core program indicators relevant to your program:

(1) Proportion of persons living with HIV and their sex and injection drug-using partners who are HIV negative or who do not know their HIV status that completed the intended number of sessions for each of the prevention interventions supported by this program announcement.

(2) Proportion of persons at very high risk for HIV infection who completed the intended number of sessions for each of the prevention interventions supported by this program announcement.

(3) Percent of HIV infected persons who, after a specified period of participation in each of the prevention interventions supported by the program announcement, report a reduction in sexual or drug-using risk behaviors or maintain protective behaviors with seronegative partners or with partners of unknown status.

(4) Percent of contacts with unknown or negative serostatus receiving an HIV test after PCRS notification.

(5) Percent of contacts with a newly identified, confirmed HIV-positive test among contacts who are tested.

(6) Percent of contacts with a known, confirmed HIV-positive test among all contacts.

F. Evaluation and Monitoring Intervention Activities

Suggested length: five pages.

1. You must:

(a) Collect and report client-level data.

(b) Collect and report standardized process and outcome monitoring data consistent with CDC requirements.

(c) Enter and transmit data for CDC-funded services on CDC's browser-based system or describe plans to make a local system compatible with CDC's system. (There is a description of PEMS in Attachment IV.)

(d) Collect and report data consistent with CDC requirements to ensure data quality and security and client confidentiality.

(e) Collaborate with CDC to assess the impact of HIV prevention activities and participate in special projects upon request.

2. In your application, please describe your:

(a) Current system of data collection and methods for reporting HIV prevention activities including data system specifications and data management information systems.

(b) Capacity to collect and report client-level data for HIV prevention services and the effect of those services on client HIV risks and health service utilization.

(c) Plans to identify and address barriers and facilitators to the collection of client-level demographic and behavioral characteristics.

(d) Plans to ensure that data quality and security are consistent with CDC requirements and guidelines.

(e) Willingness to collaborate with CDC in the design and implementation of other evaluation projects.

(f) Technical assistance needs to meet evaluation and monitoring requirements.

(g) Baseline level, one-year interim, and five-year overall target levels of performance for the following core indicator: proportion of client records with the CDC-required demographic and behavioral risk information.

G. Referral Activities

Suggested length: four pages.

1. For services not available through your organization, you must:

(a) Collaborate with other agencies to increase the number of persons who receive comprehensive services including prevention, testing, medical care, mental health, and drug abuse treatment.

(b) Develop a formal agreement such as a memorandum of understanding with each collaborating agency serving persons identified through your program within six months of funding.

(c) Track referral activities and their outcomes. You must document the type of referral (e.g. mental health, housing), date of referral, and outcome of referral (such as completion of first appointment).

(d) Collect and report data on referrals, including core performance indicators, as directed in the PEMS and Evaluation Guidance.

2. In your application, you must:

(a) Describe your plans to develop a referral network to ensure that clients identified through your program have access to comprehensive services including access to primary care, life-prolonging medications, and essential support services that will maintain HIV-positive individuals in systems of care.

(b) Provide documentation of any formal agreements with providers and other agencies where your clients may be referred.

(c) Specify baseline levels, projected one-year interim, and five-year overall performance levels for the following core indicator: The mean number of outreach contacts required to get a person living with HIV, and their sex and injection drug-using partners, or an individual at very high risk for HIV infection, to access referrals made under this program announcement.

H. Collaboration and Coordination With the HIV Prevention Community Planning Process and Local Health Department

Suggested length: three pages.

1. You must:

(a) Collaborate and coordinate activities with the HIV prevention CPG and local health department. Collaboration activities may include participating in the needs assessment process, reviewing and commenting on plans, presenting an overview of your project activities to the CPG in their jurisdiction and making clients available for focus groups and other planning activities. Coordination activities may include sharing progress reports, program plans, and monthly calendars with state and local health departments, CPGs, and other organizations and agencies involved in HIV prevention activities serving your target population.

(b) Participate in the HIV prevention community planning process. Participation may include involvement in workshops, attending meetings, serving as a member of the CPG, and becoming familiar with and utilizing information from the community planning process, such as the epidemiologic profile, needs assessment data, and intervention strategies. Membership in the CPG is not required, and it is determined by the group's bylaws and selection criteria.

2. In your application, describe your plans to:

(a) Participate, collaborate, and coordinate with the HIV prevention CPG.

(b) Participate, collaborate, and coordinate with the local health department.

(c) Participate in the HIV prevention community planning process.

I. Capacity Building

Suggested length: four pages.

1. You must:

(a) Conduct a capacity-building needs assessment.

(b) Develop a comprehensive capacity-building plan based on the outcomes of the needs assessment.

(c) Share any new CBA needs that develop during the project period with your project officer.

(d) Attend a grantee orientation for administrative and programmatic staff.

(e) Participate in any mandatory training conducted or sponsored by CDC.

(f) Ensure that your CBO's financial manager attends a CDC-sponsored financial training. If the financial manager leaves your agency, his/her replacement must attend training within six months.

2. In your application, please answer the following questions:

(a) What are your immediate, intermediate and long term CBA needs; and how do you plan to address them?

(b) How do you plan to share any new CBA needs that develop during the project period with your project officer?

J. Guidance on Use of Funds

You must consider the following funding restrictions when you are creating your project budget:

• Funds may be used to hire contractors or support coalition partners to strengthen program activities. CDC encourages you to develop coalitions with other prevention providers, medical providers, and health departments to implement your proposed program; however, your CBO, not the contract organization(s) or the coalition partner(s), must conduct the largest portion of the activities (including managing the program and activities) funded by this award.

• Funds cannot be used to provide medical or substance abuse treatment.

If you are requesting indirect costs in your budget, you must include a copy of your negotiated indirect cost rate agreement. If your indirect cost rate is a provisional rate, the agreement must be less than 12 months of age.

For budget guidance, visit the CDC Web site http://www.cdc.gov/od/pgo/funding/budgetguide.htm.

Submission Date, Time, and Address

LOI Deadline Date: December 22, 2003.

LOI Submission Address: Submit your LOI by express delivery service, or e-mail to: William Bancroft, Public Health Analyst, CDC, NCHSTP, DHAP, IR, 1600 Clifton Road, MS E58, Atlanta, GA 30333, Pa04064@cdc.gov.

Application Deadline Date: February 6, 2004.

Application Submission Address: Submit your application by mail or express delivery service to: Technical Information Management—PA# 04064, CDC Procurement and Grants Office, 2920 Brandywine Road, Atlanta, GA 30341.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) carrier error, when the carrier accepted the package with a guarantee for delivery by the closing date and time, or (2) significant weather delays or natural disasters, you will be given the opportunity to submit documentation of the carrier's guarantee. If the documentation verifies a carrier problem, CDC will consider the application as having been received by the deadline.

If your application does not meet the submission deadline, it will not be eligible for review and will be discarded. You will be notified that you did not meet the submission requirements.

CDC will not be sending postcards to confirm application receipt. Please contact your mail carrier to confirm delivery. If you still have questions, contact the PGO-TIM staff at 770-488-2700. Before calling, please wait two to three days after the application deadline. This will allow time for the applications to be processed and logged.

Intergovernmental Review of Applications: Executive Order 12372 does apply to this program.

V. Application Review Information

Review Criteria: You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

There are 2 steps to the evaluation process.

Step One

In the first step of the evaluation process, your application will be evaluated based on each item referenced in Section IV., entitled, “Application and Submission Information.” Your application will be evaluated by an independent review panel assigned by CDC. The panel will assign your application a score using scored evaluation criteria as specified in Section V., entitled, “Application Review Information,” and based on your responses to the questions in Section IV., entitled, “Application and Submission Information” beginning with B. Justification of Need. Your application will be ranked based on this score. The highest-ranked applications will be considered for a pre-decisional site visit (Step two).

Step Two

The second step of the review process is conducted via pre-decisional site visits which are worth 100 points. To be considered for funding, you must score at least 70 points during this process. If you fail to reach 70 points, your CBO will be disqualified. CDC will invite health department staff to participate in the site visit.

Criteria for Step One: Application Review

Your application will be evaluated on the following criteria:

A. Eligibility (not scored)

This section of your application will be reviewed to determine if you are eligible for funding.

B. Justification of Need (200 points)

This section of your application will be scored based on your description of:

• The target population's needs.

• How your proposed intervention meets the needs of the jurisdiction's HIV Prevention Comprehensive Plan.

• Your experience and credibility in working with the proposed target population.

C. Targeted Outreach and Health Education/Risk Reduction for High-Risk Individuals (150 points)

This section of your application will be scored based on your target levels of performance for each core indicator and your plans to:

• Increase the number of persons at high risk for HIV infection who learn their HIV serostatus.

• Identify persons at high risk for HIV infection.

• Identify and address your target population's barriers to accessing HE/RR.

• Involve the target population when planning and implementing your program(s).

• Adapt and tailor CDC procedures, including REP and DEBI.

• Offer voluntary HIV counseling and testing to each individual reached by your program.

• Ensure that individuals who consent to HIV testing receive a test either through your CBO or via referral.

• Develop, implement, and maintain quality assurance strategies.

• Train, support, and retain staff.

• Ensure client confidentiality.

• Ensure cultural sensitivity and relevance of your interventions.

D. Targeted Outreach and Counseling, Testing, and Referral Services (CTR) (150 points)

This section of your application will be scored based on your target levels of performance for each core indicator and your plans to:

• Identify high-risk individuals who have not tested within the past six months or do not know their HIV serostatus for voluntary counseling and testing.

• Identify and address your target population's barriers to accessing counseling and testing services.

• Ensure clients receive their test results.

• Ensure confirmatory testing for positive initial test results.

• Involve your target population when planning and implementing your program(s).

• Adapt and tailor CDC procedures, including REP and DEBI, to your existing or proposed services.

• Develop, implement, and maintain quality assurance strategies for counseling, testing, and referral services.

• Train, support, and retain staff.

• Ensure client confidentiality.

• Ensure cultural sensitivity and relevance of your interventions.

E. Prevention Interventions (175 points)

This section of your application will be scored based on your proposed target levels of performance for each core indicator and your plans to:

• Identify and offer services to individuals living with HIV, and their sex and injection drug-using partners who are HIV negative, or who do not know their HIV status.

• Identify and offer services to individuals at very high risk for HIV infection.

• Coordinate prevention services with other case management and/or treatment providers for individuals living with HIV.

• Ensure that prevention services do not duplicate services provided by the Ryan White Care Act program.

• Identify and address barriers to retaining persons in interventions.

• Identify and address barriers to conducting your proposed prevention interventions.

• Meet all local, State, and Federal requirements for HIV prevention services.

• Involve your target population when planning and implementing your program(s).

• Adapt and tailor relevant CDC procedures, including REP and DEBI, to your existing services or proposed program.

• Develop, implement, and maintain quality assurance strategies for prevention interventions.

• Train, support, and retain staff.

• Ensure client confidentiality.

• Ensure cultural sensitivity and relevance of the prevention interventions.

F. Evaluation and Monitoring Intervention Activities (100 points)

This section of your application will be scored based on your target levels of performance for each core indicator and the description of your:

• Current data collection and reporting systems.

• Capacity to collect and report client-level data.

• Plans to identify and address barriers to client-level data.

• Plans to ensure data quality and security.

• Willingness to collaborate with CDC in special evaluation and monitoring projects.

• Technical assistance needs to meet evaluation and monitoring requirements.

G. Referral Activities (100 points)

This section of your application will be scored based on your baseline and projected target levels of performance for each core indicator and your plans to:

• Identify and collaborate with other agencies to ensure access to comprehensive services, including access to primary care, life-prolonging medications, and essential support services that will maintain HIV-positive individuals in systems of care.

• Track referral activities and outcomes of these activities.

• Develop formal agreements with your network of providers.

H. Collaboration and Coordination With the HIV Prevention Community Planning Process and Local Health Department (75 Points)

This section of your application will be scored based on your plans to:

• Collaborate and coordinate activities with the HIV prevention Community Planning Group (CPG).

• Collaborate and coordinate activities with the health department.

• Participate in the HIV prevention community planning process.

I. Capacity Building (50 points)

This section of your application will be scored based on your plans to:

• Conduct a comprehensive capacity-building needs assessment of your agency.

• Work with CDC-coordinated capacity-building programs.

Step Two: Pre-Decisional Site Visit

The following areas will be evaluated during the visit:

A. Proposed Program (250 points)

The purpose of this section is to assess your CBO's ability to effectively implement your proposed HIV prevention interventions. Your score will be based on:

• Your implementation of CDC protocols and procedures, including REP and DEBI.

• Your one-year and five-year overall target levels of performance

• How your target population reflects the priorities identified in the HIV Prevention Comprehensive Plan.

• How your interventions reflect the needs identified in the your jurisdiction's HIV Prevention Comprehensive Plan.

B. Programmatic Infrastructure (200 points)

The purpose of this section is to assess your CBO's experience and ability to identify and address the needs of your proposed target population. This section will also assess your ability to effectively and efficiently implement your proposed activities. Your score will be based on your CBO's:

• Organizational structure and planned collaborations.

• Experience in developing and implementing effective and efficient HIV prevention strategies and activities.

• Experience with governmental and non-governmental organizations, including other national agencies or organizations, state and local health departments, CPGs, and state and local non-governmental organizations that provide HIV prevention services.

• Ability to secure meaningful input and representation from members of the target population(s).

• Ability to provide culturally competent and appropriate services that respond effectively to the characteristics of the target population (characteristics may include cultural, gender, sexual orientation, HIV serostatus, race/ethnicity, age, environmental, social, and linguistic characteristics).

• Ability to adequately staff your program.

• Ability to collect and report process and monitoring data on services provided and use them to plan future interventions and improve available services.

C. Organizational Infrastructure (150 points)

The purpose of this section is to assess your CBO's ability to effectively and efficiently sustain your proposed program. Your score will be based on your CBO's:

• Organizational bylaws, mission, and vision.

• Composition, role, experience, and involvement of the board of directors in administering the agency.

• Current fiscal systems to track available funding.

• Personnel process and procedures.

• Organizational protocols and procedures e.g., security, confidentiality, and grievances.

• Organizational capacity for fundraising.

D. Health Department Review (100 points)

The purpose of this section is to gather feedback on your proposed program plan from the health department. Your score will be based on the health department's review of your:

• Review of the program plan (e.g., proposed target population, proposed intervention(s), number of persons to be served, and service location) and your consistency with the HIV Prevention Comprehensive Plan.

• Rating of past experience with state/city-funded programs.

• Letter of support or non-support for funding from the health department, addressed to CDC.

CDC's Procurement and Grants Office (PGO) will conduct a Recipient Capability Assessment (RCA) to evaluate your CBO's ability to manage CDC funds. This assessment will be conducted by either PGO staff or another selected agency.

Review and Selection Process

In addition to your application content score and the outcome of your pre-decisional site visit, the following factors may affect the funding decision: Preference for funding will be given to ensure that:

• Funded CBOs are balanced in terms of targeted racial/ethnic minority groups. (The number of funded CBOs serving each racial/ethnic minority group may be adjusted based on the burden of infection in that group as measured by HIV or AIDS reporting.)

• Funded CBOs are balanced in terms of targeted risk behaviors. (The number of funded CBOs serving each risk group may be adjusted based on the burden of infection in that group as measured by HIV or AIDS reporting.)

• Funded CBOs are balanced in terms of geographic distribution. (Consideration will be given to both high and lower prevalence areas; the number of funded CBOs may be adjusted based on the burden of infection in the jurisdiction as measured by HIV or AIDS reporting.)

• Funded CBOs are balanced in terms of targeted gender. (The number of funded CBOs serving each gender group may be adjusted based on burden of infection in that group as measured by HIV or AIDS reporting.)

• Funding opportunities are available for faith-based CBOs and CBOs serving rural areas, incarcerated individuals, or high risk populations who do not have the services funded under this announcement available in their geographic area.

VI. Award Administration Information

Award Notices: If your CBO is funded, you will receive a Notice of Grant Award (NGA) from the CDC Procurement and Grants Office. The NGA shall be the only binding, authorizing document between the recipient and CDC. The NGA will be signed by an authorized Grants Management Officer, and mailed to the recipient fiscal officer identified in the application.

Administrative and National Policy Requirements: 45 CFR part 74 and 92.

For more information on the Code of Federal Regulations, see the National Archives and Records Administration at the following Internet address: http://www.access.gpo.gov/nara/cfr-table-search.html.

The following additional requirements apply to this project:

• AR-4 HIV/AIDS Confidentiality Provisions

• AR-5 HIV Program Review Panel Requirements

• AR-7 Executive Order 12372

• AR-8 Public Health System Reporting Requirements

• AR-9 Paperwork Reduction Act Requirements

• AR-10 Smoke-Free Workplace Requirements

• AR-11 Healthy People 2010

• AR-12 Lobbying Restrictions

• AR-14 Accounting System Requirements

• AR-15 Proof of Non-Profit Status

Additional information on these requirements can be found on the CDC Web site at the following Internet address: http://www.cdc.gov/od/pgo/funding/ARs.htm.

Reporting Requirements

1. You must provide CDC with an original, plus two copies of the following reports:

(a) Your interim progress report, no later than February 15 of each year. The progress report will serve as your non-competing continuation application, and must contain the following elements:

(1) Current budget period activities objectives.

(2) Current budget period financial progress.

(3) New budget period proposed program activity objectives.

(4) Detailed line-item budget and justification.

(5) Baselines and target levels of performance for core and optional indicators.

(6) New budget period proposed program activities.

(7) Additional requested information.

(b) The second semi-annual report will be due August 30 of each year. Additional guidance on what to include in this report may be provided approximately three months before the due date. It should include:

(1) Baseline and actual level of performance on core and optional indicators.

(2) Current budget period financial progress.

(3) Additional requested information.

(c) Financial status report, no more than 90 days after the end of the budget period.

(d) Final financial and performance reports, no more than 90 days after the end of the project period.

(e) Data reports of agency, financial, and HIV interventions including, but not limited to, HIV individual and group level; PCM; outreach; CTR; and/or partner CTR services are required 45 days after the end of each quarter or as specified in the most recent evaluation guidance. Project areas may request technical assistance. Submit data to the Program Evaluation Research Branch electronically, and then send an electronic notification of your data submission to the Grants Management Specialist listed in the “Agency Contacts” section of this announcement.

2. Submit any newly developed public information resources and materials to the CDC National Prevention Information Network (formerly the AIDS Information Clearinghouse) so that they can be incorporated into the current database for access by other organizations and agencies.

3. HIV Content Review Guidelines. (a) Submit the completed Assurance of Compliance with the Requirements for Contents of AIDS-Related Written Materials Form (CDC form—0.1113) with your application as Appendix D. This form lists the members of your program review panel. The form is included in your application kit. The current Guidelines and the form may be downloaded from the CDC Web site: http://www.cdc.gov/od/pgo/forminfo.htm. Please include this completed form with your application. This form must be signed by the Project Director and authorized business officer.

(b) You must also include approval by the relevant review panel of any CDC-funded HIV educational materials that you are currently using by the relevant review panel. Use the enclosed form, “Report of Approval”. If you have nothing to submit, you must complete the enclosed form “No Report Necessary”. You must include either the “Report of Approval” or “No Report Necessary” with all progress reports and continuation requests.

(c) Use a Web page notice if your Web site contains HIV/AIDS educational information subject to the CDC content review guidelines.

4. Adhere to CDC policies for securing approval for CDC-sponsored conferences. If you plan to hold a conference, you must send a copy of the agenda to CDC's Grants Management Office.

5. If you plan to use materials using CDC's name, send a copy of the proposed material to CDC's Grants Management Office for approval.

VII. Agency Contacts

For general questions about this announcement, contact: Technical Information Management Section, CDC Procurement and Grants Office, 2920 Brandywine Road, MS K14, Atlanta, GA 30341, Telephone: 770-488-2700.

For program technical assistance, contact: Samuel Martinez, M.D., Health Scientist, CDC, NCHSTP, DHAP, IRS, 1600 Clifton Road, MS E58, Atlanta, GA 30333, Telephone: 404-639-5219, E-mail: Sbm5@cdc.gov.

For budget assistance, contact: Carlos Smiley, Grants Management Officer, CDC Procurement and Grants Office, 2920 Brandywine Road, MS K14, Atlanta, GA 30341, Telephone: 770-488-2722, E-mail: anx3@cdc.gov.

Dated: November 21, 2003.
Edward Schultz,
Acting Director, Procurement and Grants Office, Centers for Disease Control and Prevention.

[FR Doc. 03-29807 Filed 11-26-03; 11:20 am]

BILLING CODE 4163-18-P